DEPARTMENT OF LABOR

Employment and Training Administration

Proposed Information Collection; Comments: Services to Migrant and Seasonal Farm Workers Report, ETA Form 5148 and the Employment Service Complaint Referral Record, ETA Form 8429

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed two-year extension of the Services to Migrant and Seasonal Farm Workers Report, ETA Form 5148, and the Employment Service Complaint Referral Record, ETA Form 8429, from the current end date of June 30, 2004, to the new end date of June 30, 2006.

DATES: Submit comments on or before June 14, 2004.

ADDRESSES: Send comments to: Anthony Dais, U.S. Department of Labor/Employment and Training Administration, Office of Workforce Investment, Room S-4321, 200 Constitution Avenue, NW., Washington, DC 20210, (202) 693-2784—not a toll free number, fax: (202) 693-3015 and e-mail address: dais.anthony@dol.gov.

FOR FURTHER INFORMATION CONTACT: Erik Land, U.S. Department of Labor/Employment and Training Administration, Office of Workforce Investment, Room S-4321, 200 Constitution Avenue, NW., Washington, DC 20210, (202) 693-2916—not a toll free number and e-mail address: lang.erik@dol.gov.

SUPPLEMENTARY INFORMATION:

I. Background

ETA regulations at 20 CFR parts 651, 653, and 658 under the Wagner-Peyser Act, as amended by the Workforce Investment Act of 1998, set forth requirements to ensure that Migrant and Seasonal Farmworkers (MSFWs) receive services that are qualitatively equivalent and quantitatively proportionate to the services provided to non-MSFWs. In compliance with 20 CFR 653.109, the Department established record-keeping requirements to allow for the efficient and effective monitoring of State Workforce Agencies' (SWAs) regulatory compliance. The ETA Form 5148, Services to Migrant and Seasonal Farm Workers Report, is used to collect data which are primarily used to monitor and measure the extent and effectiveness of SWA service delivery to MSFWs. The ETA Form 8429, Employment Service Compliant Referral Record, is used to collect and document all individual complaints filed under the complaint system.

II. Desired Focus of Comments

Currently, ETA is soliciting comments concerning the proposed two-year extension of the Services to Migrant and Seasonal Farm Workers Report, ETA Form 5148, and the Employment Service Complaint Referral Record, ETA Form 8429, from the current end date of June 30, 2004, to the new end date of June 30, 2006, including focusing on the following:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

A copy of the proposed information collection request can be obtained by contacting the office listed above in the addresses section of this notice.

III. Current Actions

This is a request for Office of Management and Budget (OMB) approval under the Paperwork Reduction Act of 1995 (PRA95) (44 U.S.C. 3506(c)(2)(A)) to extend the collection of the Services to Migrant and Seasonal Farm Workers Report, ETA Form 5418, and the Employment Service Complaint Referral Record, ETA Form 8429, from the current end date of June 30, 2004, to new end date of June 30, 2006.

Type of Review: Extension (without change).

Agency: Employment and Training Administration.

Title: ETA Form 5148, Services to Migrant and Seasonal Farm Workers Report, and ETA Form 8429, Employment Service Complaint Referral Record.

OMB Number: 1205-0039.

Complaint Log Maintenance

1. Recordkeeping:

Number of record-keepers: 168.

Annual hours per record: 6.3

Record-keeper hours: 1,058.

2. Processing ETA FORM 8429:

Annual number of forms: 2,520.

Minutes per form: 8.

Processing hours: 336.

Outreach Log

1. Recordkeeping:

Number of record-keepers: 150.

Annual hours per record-keeper: 26.

Record-keepers hours: 3,900

2. Data Collection/Reporting ETA FORM 5148:

Number of Respondents: 52.

Annual number of reports: 4.

Total number of reports: 208.

Minutes per report: 70.

Record keeping hours: 243.

Estimated Total Burden Hours: 5,537.

Total Burden Cost (operating/maintaining): $0.

Comments submitted in response to this notice will be summarized and/or included in the request for OMB approval of the information collection request; they will also become a matter of public record.

Dated: April 9, 2004.
Emily Stover DeRocco,
Assistant Secretary for Employment and Training.

[FR Doc. 04-8555 Filed 4-14-04; 8:45 am]

BILLING CODE 4510-30-M